DEPARTMENT OF THE INTERIOR

Fish and Wildlife Service

Notice of Intent To Prepare a Comprehensive Conservation Plan and Environmental Assessment for Logan Cave National Wildlife Refuge in Benton County, AR

AGENCY: Fish and Wildlife Service, Interior

ACTION: Notice of intent.

SUMMARY: The Fish and Wildlife Service, Southeast Region, intends to gather information necessary to prepare a comprehensive conservation plan and environmental assessment pursuant to the National Environmental Policy Act of 1969 and its implementing regulations.

The National wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following.

(1) Advise other agencies and the public of our intentions, and

(2) Obtain suggestions and information on the scope of issues to include in the environmental document.

DATES: Special mailings, newspaper articles, and other media announcements will be used to inform the public and state and local government agencies of the opportunities for input throughout the planning process. Open house style meeting(s) will be held throughout the scoping phase of the comprehensive conservation plan development process.

ADDRESSES: Comments, questions, and requests for more information regarding the Logan Cave National Wildlife Refuge planning process should be sent to: Ben Mense, Refuge Manager, Logan Cave National Wildlife Refuge, 10448 Holla Bend Road, Dardanelle, Arkansas 72834; Telephone 479/229-4300; Fax: 479/229-4302; Electronic mail: ben_mense@fws.gov. To ensure consideration, written comments must be received no later than January 9, 2006. Our practice is to make comments, including names and addresses of respondents, available for public review during regular business hours. Individual respondents may request that we withhold their home addresses from the record, which we will honor to the extent allowable by law.

SUPPLEMENTARY INFORMATION: Logan Cave National Wildlife Refuge was established in 1989 under the Endangered Species Act of 1973. This 123-acre Ozark Mountain refuge, which includes a limestone-solution cave, is 20 miles west of Fayetteville, Arkansas, and approximately 2 miles north of U.S. Highway #412. The ecology of Logan Cave Refuge has been described as the highest-quality cave habitat in the entire Ozark region. A spring-fed stream, with an average water flow of 5 million gallons/day, extends the entire length of the cave. The primary objectives of the refuge are to properly administer, preserve, and develop the tract for protection of a unique cave ecosystem that provides essential habitat for endangered species, such as the gray bat and the Ozark cave crayfish, the threatened Ozark cavefish, and other significant cave-dwelling wildlife species.

Authority: This notice is published under the authority of the National Wildlife Refuge System Improvement Act of 1997, Public Law 105-57.

Dated: November 2, 2005.
Cynthia K. Dohner,
Acting Regional Director.

[FR Doc. 05-23152 Filed 11-22-05; 8:45 am]

BILLING CODE 4310-55-M